DEPARTMENT OF ENERGY

Federal Energy Regulatory Commission

Combined Notice of Filings #1

Take notice that the Commission received the following exempt wholesale generator filings:

Docket Numbers: EG24-265-000.

Applicants: Clearview Solar I, LLC.

Description: Clearview Solar I, LLC submits Notice of Self-Certification of Exempt Wholesale Generator Status.

Filed Date: 8/29/24.

Accession Number: 20240829-5050.

Comment Date: 5 p.m. ET 9/19/24.

Take notice that the Commission received the following electric rate filings:

Docket Numbers: ER23-2979-004.

Applicants: CPV Maple Hill Solar, LLC.

Description: Compliance filing: Informational Filing Regarding Planned Transfer to be effective N/A.

Filed Date: 8/29/24.

Accession Number: 20240829-5213.

Comment Date: 5 p.m. ET 9/19/24.

Docket Numbers: ER24-2906-000.

Applicants: Southwest Power Pool, Inc.

Description: 205(d) Rate Filing: Revisions to Incorporate a Mark-to-Auction Collateral Requirement for TCR Market to be effective 5/1/2025.

Filed Date: 8/28/24.

Accession Number: 20240828-5162.

Comment Date: 5 p.m. ET 9/18/24.

Docket Numbers: ER24-2907-000.

Applicants: Mid-Atlantic Interstate Transmission, LLC, PJM Interconnection, L.L.C.

Description: 205(d) Rate Filing: Mid-Atlantic Interstate Transmission, LLC submits tariff filing per 35.13(a)(2)(iii: MAIT submits Amended IA, SA No. 4578 to be effective 10/29/2024.

Filed Date: 8/29/24.

Accession Number: 20240829-5028.

Comment Date: 5 p.m. ET 9/19/24.

Docket Numbers: ER24-2908-000.

Applicants: American Electric Power Service Corporation, PJM Interconnection, L.L.C.

Description: 205(d) Rate Filing: American Electric Power Service Corporation submits tariff filing per 35.13(a)(2)(iii: AEPSC submits I&M and NIPSCO CIAC SA No. 7262 to be effective 8/21/2024.

Filed Date: 8/29/24.

Accession Number: 20240829-5039.

Comment Date: 5 p.m. ET 9/19/24.

Docket Numbers: ER24-2909-000.

Applicants: PJM Interconnection, L.L.C.

Description: Tariff Amendment: Notice of Cancellation of WMPA, SA No. 6020; Queue No. AG1-141 to be effective 10/29/2024.

Filed Date: 8/29/24.

Accession Number: 20240829-5051.

Comment Date: 5 p.m. ET 9/19/24.

Docket Numbers: ER24-2910-000.

Applicants: PJM Interconnection, L.L.C.

Description: 205(d) Rate Filing: Amendment to ISA, Service Agreement No. 3349; U2-073/Z2-013/AB2-038 to be effective 10/29/2024.

Filed Date: 8/29/24.

Accession Number: 20240829-5056.

Comment Date: 5 p.m. ET 9/19/24.

Docket Numbers: ER24-2911-000.

Applicants: Entergy Louisiana, LLC.

Description: 205(d) Rate Filing: ELL Amite LBA Agreement to be effective 8/31/2024.

Filed Date: 8/29/24.

Accession Number: 20240829-5058.

Comment Date: 5 p.m. ET 9/19/24.

Docket Numbers: ER24-2912-000.

Applicants: Bluegrass Solar, LLC.

Description: Compliance filing: Informational Filing Pursuant to Schedule 2 of the PJM Interconnection to be effective N/A.

Filed Date: 8/29/24.

Accession Number: 20240829-5061.

Comment Date: 5 p.m. ET 9/19/24.

Docket Numbers: ER24-2913-000.

Applicants: Midcontinent Independent System Operator, Inc.

Description: 205(d) Rate Filing: 2024-08-29_SA 4344 NSP-Northern Prairie Solar II GIA (J1657) to be effective 8/19/2024.

Filed Date: 8/29/24.

Accession Number: 20240829-5064.

Comment Date: 5 p.m. ET 9/19/24.

Docket Numbers: ER24-2914-000.

Applicants: Midcontinent Independent System Operator, Inc.

Description: 205(d) Rate Filing: 2024-08-29_SA 4345 DPC-ibV Energy GIA (J1808) to be effective 8/20/2024.

Filed Date: 8/29/24.

Accession Number: 20240829-5065.

Comment Date: 5 p.m. ET 9/19/24.

Docket Numbers: ER24-2915-000.

Applicants: American Transmission Systems, Incorporated, PJM Interconnection, L.L.C.

Description: 205(d) Rate Filing: American Transmission Systems, Incorporated submits tariff filing per 35.13(a)(2)(iii: ATSI submits One Construction Services Agreement, SA No. 6940 to be effective 10/29/2024.

Filed Date: 8/29/24.

Accession Number: 20240829-5091.

Comment Date: 5 p.m. ET 9/19/24.

Docket Numbers: ER24-2916-000.

Applicants: PJM Interconnection, L.L.C.

Description: 205(d) Rate Filing: Original GIA Service Agreement No. 7338, AG1-223 to be effective 7/30/2024.

Filed Date: 8/29/24.

Accession Number: 20240829-5104.

Comment Date: 5 p.m. ET 9/19/24.

Docket Numbers: ER24-2917-000.

Applicants: California Independent System Operator Corporation.

Description: 205(d) Rate Filing: 2024-08-29 WEIM Implementation Agreement—Black Hills to be effective 10/29/2024.

Filed Date: 8/29/24.

Accession Number: 20240829-5145.

Comment Date: 5 p.m. ET 9/19/24.

Docket Numbers: ER24-2918-000.

Applicants: Midcontinent Independent System Operator, Inc., Montana-Dakota Utilities Co.

Description: 205(d) Rate Filing: Midcontinent Independent System Operator, Inc. submits tariff filing per 35.13(a)(2)(iii: 2024-08-29_SA 4329 4330 MDU-Bowman Wind MPFP FCA & FSA to be effective 10/29/2024.

Filed Date: 8/29/24.

Accession Number: 20240829-5150.

Comment Date: 5 p.m. ET 9/19/24.

Docket Numbers: ER24-2919-000.

Applicants: Mid-Atlantic Interstate Transmission, LLC, PJM Interconnection, L.L.C.

Description: 205(d) Rate Filing: Mid-Atlantic Interstate Transmission, LLC submits tariff filing per 35.13(a)(2)(iii: MAIT submits One Construction Agreement, SA No. 7219 to be effective 10/29/2024.

Filed Date: 8/29/24.

Accession Number: 20240829-5157.

Comment Date: 5 p.m. ET 9/19/24.

Docket Numbers: ER24-2920-000.

Applicants: Clearview Solar I, LLC.

Description: Baseline eTariff Filing: Application for MBR Authorization to be effective 10/1/2024.

Filed Date: 8/29/24.

Accession Number: 20240829-5171.

Comment Date: 5 p.m. ET 9/19/24.

Docket Numbers: ER24-2921-000.

Applicants: Boswell Wind, LLC.

Description: Baseline eTariff Filing: Baseline new to be effective 8/30/2024.

Filed Date: 8/29/24.

Accession Number: 20240829-5173.

Comment Date: 5 p.m. ET 9/19/24.

Docket Numbers: ER24-2922-000.

Applicants: Last Mile Transmission, LLC.

Description: Baseline eTariff Filing: Baseline new to be effective 8/30/2024.

Filed Date: 8/29/24.

Accession Number: 20240829-5212.

Comment Date: 5 p.m. ET 9/19/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: August 29, 2024.
Debbie-Anne A. Reese,
Acting Secretary.

[FR Doc. 2024-19968 Filed 9-4-24; 8:45 am]

BILLING CODE 6717-01-P